GENERAL ACCOUNTING OFFICE

Federal Accounting Standards Advisory Board

AGENCY: General Accounting Office

ACTION: Notice of meeting in San Francisco on July 3, 2000.

Board Action: Pursuant to the Federal Advisory Committee Act (Pub. L. 92-463), as amended, and the FASAB Rules Of Procedure, as amended in October, 1999, notice is hereby given that the Federal Accounting Standards Advisory Board (FASAB) will meet on Monday, July 3, from 9:00 AM to 3:00 PM (Pacific Coast Time) in San Francisco, California, in the Pacific Conference Room J (4th floor) of the San Francisco Marriott Hotel. The address of the hotel is 55 Fourth St., San Francisco, CA 94103. The telephone number is 415-896-1600. The meeting is being held in conjunction with the Professional Development Conference of the Association of Government Accountants.

The purpose of the meeting is to:

• Review and discuss the FY 1999 Consolidated Financial Statement,

• Discuss the status of the SFFAS 7 Implementation Guide, and

• Review changes to the Stewardship Exposure Drafts.

Any interested person may attend the meeting as an observer. Board discussion and reviews are open to the public.

FOR FURTHER INFORMATION CONTACT: Wendy Comes, Executive Director, 441 G St., NW., Room 6814, Washington, DC 20548, or call (202) 512-7350.

Authority: Federal Advisory Committee Act. Pub. L. 92-463.

Dated: June 15, 2000.
Wendy M. Comes,
Executive Director.

[FR Doc. 00-15487 Filed 6-19-00; 8:45 am]

BILLING CODE 1610-01-M